ENVIRONMENTAL PROTECTION AGENCY

[FRL-8044-9]

Notice of Proposed Prospective Purchaser Agreement Pursuant to CERCLA and RCRA, Chem-Wood Facility, Campbell Industrial Park, Ewa Beach, HI

AGENCY: Environmental Protection Agency (EPA).

ACTION: Notice; request for public comment.

SUMMARY: Notice is hereby given that a proposed Prospective Purchaser Agreement (“Agreement”) associated with the Chem-Wood Facility, located at 91-476 Komohana Street in Campbell Industrial Park, Ewa Beach, Hawaii, was executed by the Agency and the United States Department of Justice on March 3, 2006. Chem-Wood is a former wood-treating facility at which a number of wastes have been generated and hazardous substances, including copper chromated arsenic and pentachlorophenol, have been used. The Agreement is between Kanani L.L.C. and the United States, and is subject to final approval after the comment period. The Agreement would resolve certain potential EPA claims under the Comprehensive Environmental Response, Compensation, and Liability Act of 1980, as amended (“CERCLA”), and potential claims under sections 3008(h) and 7003 of the Resource Conservation and Recovery Act, as amended by the Hazardous and Solid Waste Amendments of 1984 (“RCRA”).

Kanani L.L.C. plans to purchase the Chem-Wood Facility for storage of supplies and materials, parking of vehicles on paved areas, and other similar uses. Under this proposed Agreement, Kanani L.L.C. would be required to perform ground water and soil response actions, maintain security of the perimeter of the property, and maintain the integrity of the existing asphalt cap. Also under the Agreement, Kanani L.L.C. will be required to grant access to the property to EPA, its authorized officers, employees, representatives, and all other persons performing response actions under EPA oversight.

DATES: The comment period will expire fifteen (15) days from the date of this notice. A public hearing will be held on March 22, 2006 at 6 p.m. at Kapolei Elementary School, 91-1119 Kamaaha Loop, Kapolei, Hawaii, in accordance with section 7003(d) of RCRA, 42 U.S.C. 6973(d).

ADDRESSES: Comments may be submitted to Harrison Karr, Assistant Regional Counsel (ORC-3), U.S. Environmental Protection Agency, Region IX, 75 Hawthorne Street, San Francisco, California 94105 (phone (415) 972-3939; e-mail: karr.harrison@epa.gov). Comments should reference “The Chem-Wood Facility Prospective Purchaser Agreement.” EPA's response to any comments received will be available for public inspection at the U.S. Environmental Protection Agency, Region IX, 75 Hawthorne Street, San Francisco, California 94105 and at the information repository of the Chem-Wood facility located at the Hawaii Department of Health, Solid and Hazardous Waste Branch, 919 Ala Moana Blvd. Suite 212, Honolulu, Hawaii.

Availability: The proposed settlement is available for public inspection at the U.S. Environmental Protection Agency, Region IX, 75 Hawthorne Street, San Francisco, California 94105, and the information repository for the Chem-Wood Facility located at the Hawaii Department of Health, Solid and Hazardous Waste Branch, 919 Ala Moana Blvd. Suite 212, Honolulu, Hawaii. A copy of the proposed Agreement may be obtained from Harrison Karr, Assistant Regional Counsel (ORC-3), U.S. Environmental Protection Agency, Region IX, 75 Hawthorne Street, San Francisco, California 94105 (phone (415) 972-3939; e-mail: karr.harrison@epa.gov).

FOR FURTHER INFORMATION CONTACT: Harrison Karr, Assistant Regional Counsel (ORC-3) U.S. Environmental Protection Agency, Region IX, 75 Hawthorne Street, San Francisco, California 94105; phone (415) 972-3939; e-mail: karr.harrison@epa.gov.

Dated: March 3, 2006.
Jeff Scott,
Director, Waste Management Division, U.S. EPA, Region IX.
Dated: March 2, 2006.
Keith Takata,
Director, Superfund Division, U.S. EPA, Region IX.

[FR Doc. E6-3584 Filed 3-13-06; 8:45 am]

BILLING CODE 6560-50-P